DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Access to Recovery (ATR) Program (OMB No. 0930-0266)—Reinstatement

The Substance Abuse and Mental Health Services Administration's (SAMHSA), Center for Substance Abuse Treatment (CSAT) is charged with the Access to Recovery (ATR) program which will allow grantees (States, Territories, the District of Columbia and Tribal Organizations) a means to implement voucher programs for substance abuse clinical treatment and recovery support services. The ATR data collection (OMB No. 0930-0266) will be a reinstatement from the previous approval that expires on May 31, 2017. There will be no changes to the two client-level tools.

The goals of the ATR program are to: (1) Provide client choice among substance abuse clinical treatment and recovery support service providers, (2) expand access to a comprehensive array of clinical treatment and recovery support options (including faith-based programmatic options), and (3) increase substance abuse treatment capacity. Monitoring outcomes, tracking costs, and preventing waste, fraud and abuse to ensure accountability and effectiveness in the use of Federal funds are also important elements of the ATR program. Grantees, as a contingency of their award, are responsible for collecting Voucher Information (VI) and Voucher Transaction (VT) data from their clients.

The primary purpose of this data collection activity is to meet the reporting requirements of the Government Performance and Results Act (GPRA) by allowing SAMHSA to quantify the effects and accomplishments of SAMHSA programs. The following table is an estimated annual response burden for this effort.

Estimates of Annualized Hour Burden ¹
Center/form/respondent type | Number of respondent | Responses per respondent | Total responses | Hours per response | Total hour burden | Total wage cost | Total hour cost/ respondent ¹
Voucher information and transaction | 53,333 | 1.5 | 80,000 | .03 | 2,400 | $18.40 | $44,160
¹ This table represents the maximum additional burden if adult respondents for ATR provide responses/data at an estimated hourly wage (from 2010 Bureau of Labor Statistics).

Send comments to Summer King, SAMHSA Reports Clearance Officer, 5600 Fishers Lane, Room 15E57-B, Rockville, Maryland 20857, OR email a copy to summer.king@samhsa.hhs.gov. Written comments should be received by June 26, 2017.

Summer King,
Statistician.

[FR Doc. 2017-08399 Filed 4-25-17; 8:45 am]

BILLING CODE 4162-20-P